DEPARTMENT OF AGRICULTURE

Submission for OMB Review; Comment Request

April 28, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Request for Direct Loan Assistance.

OMB Control Number: 0560-0167.

Summary of Collection: Section 302 (7 U.S.C. 1922) of the Consolidated Farm and Rural Development Act (CONACT) provides that “the Secretary is authorized to make and insure loans under this title to farmers and ranchers”. The Farm Service Agency (FSA) has issued regulations through the Federal Register process to implement the making and servicing of direct loans in chapter 18 of the Code of Federal Regulations. These regulations establish the information collection necessary for FSA to make and service direct loans. The loans include Operating, Farm Ownership, Soil and Water, Softwood Timber Production, Emergency, Economic Emergency, Economic Opportunity, Recreation, and Rural Housing loans for farm service building. FSA will collect information using from FSA 410-1.

Need and Use of the Information: FSA will collect information to determine if the applicant/borrower meets the eligibility requirements established in the CONACT. FSA will also collect the following information: name, address, telephone number; social security number; type of farming operation; information relating to the applicant's credit history; the source and amount of nonfarm income; and a financial statement. If the information were not collected FAS would not be able to make an accurate eligibility and financial feasibility determination on respondents' request for new loans and loan servicing actions.

Description of Respondents: Farm; Federal Government; Business or other-for-profit; Individuals or households.

Number of Respondents: 49,670.

Frequency of Responses: Reporting: Other (when applying for benefits).

Total Burden Hours: 99,340.

Forest Service

Title: Agreement to Initiate (ATI) and Exchange Agreement (EA).

OMB Control Number: 0596-0105.

Summary of Collection: Land exchanges are an important tool to consolidate landownership for purposes of more efficient management; to secure important Forest Plan objectives of resource management, enhancement, development, and protection; and to fulfill other public needs such as acquiring lands important for such resources as fisheries habitat, wild and scenic rivers, wildlife habitat, and wilderness. A land exchange is where the United States has identified either federal land or federal interest in land available for exchange and a non-Federal party has identified either private land or private interest in land they are interested in exchanging. The United States and the non-Federal party agree to do an exchange of what they own. The primary authorities used to perform land exchanges involving National Forest Systems lands include the General Exchange Act, the Weeks, Act, the Federal Land Policy and Management Act and the Federal Land Exchange Facilitation Act. The Forest Service (FS) will collect information by phone, in face to face meetings with land exchange parties, or by requesting in a letter to the exchange party that the requested information be submitted by mail.

Need and Use of the Information: FS will collect information on the description of properties being considered in land exchange; an implementation schedule of action items relating to preparation and review of an appraisal of the land; public scoping and notification; preparation of specialist reports, etc., and the identification of the party responsible for each action item, as well as target dates for completion of each action item. FS will also collect information such as the identification of the non-Federal land exchange parties; the description of the lands and interests to exchanged, such as roads; the identification of all reserved and outstanding interests, such as roads, minerals, and easements; and all other terms and conditions necessary to complete exchange. To not collect the information would mean the land exchange was dropped.

Description of Respondents: Business or other for-profit; Individuals or households; State, Local or Tribal Government.

Number of Respondents: 100.

Frequency of Responses: Reporting: On occasion.

Total Burden Hours: 200.

Farm Service Agency

Title: Fax Signature Card.

OMB Control Number: 0560-NEW.

Summary of Collection: U.S. Department of Agriculture (USDA), Farm Service Agency (FSA) is seeking alternative service delivery process that will reduce the necessity for USDA service center customers to travel to a service center to provide information and sign documents. One of the alternatives being implemented is to accept information provided via telefacsimile. Each of the USDA service center agencies (Farm Service Agency, Natural Resources Conservation Service, and Rural Development Agencies) will share the signature on the FAX signature card to eliminate redundant collection of the same data. FSA will collect information using form FSA-237 FAX signature card.

Need and use of the Information: FSA will collect the name and signature from service center customers. The information collected will be used to verify the authenticity of signatures on documents provided to USDA service centers via telefacsimile. Failure to collect and maintain the original signature will limit USDA's ability to offer the telefacsimile alternative to its service center customers.

Description of Respondents: Farms; Individuals or households.

Number of Respondents: 866,089.

Frequency of Responses: Reporting: Other (once).

Total Burden Hours: 14,429.

Agency is requesting emergency approval by May 5, 2000.

Animal and Plant Health Inspection Service

Title: Animal Welfare Act, Part 3, SubParts A and D, Dogs, Cats, Primates.

OMB Control Number: 0579-0093.

Summary of Collection: The Laboratory Animal Welfare Act (AWA) (Public Law 890544) enacted August 24, 1966, required the U.S. Department of Agriculture, (USDA), to regulate the humane care and handling of dog, and nonhuman primates. The legislation was the result of extensive demand by organized animal welfare groups and private citizens requesting a Federal law covering the transportation, care, and handling of laboratory animals. The Animal and Plant Health Inspection Service (APHIS), Animal Care (AC) has the responsibility to enforce the Animal Welfare Act (7 U.S.C. 2131-2156) and the provisions of 9 CFR, Subchapter A, which implements the Animal Welfare Act.

Need and use of the Information: APHIS will collect to insure that animal use in research facilities or exhibition purposes are provided humane care and treatment. The information is used to ensure those dealers, exhibitors, research facilities, carriers, etc., are in compliance with the Animal Welfare Act and regulations and standards promulgated under this authority of the Act.

Description of Respondents: Business or other for-profit; Not for-profit institutions; State, Local and Tribal Government.

Number of Respondents: 82,000.

Frequency of Responses: Recordkeeping; Reporting: On occasion.

Total Burden Hours: 44,313.

Food and Nutrition Service

Title: Civil Rights Title VI—Collection Reports—FNS-191 and FNS-101.

OMB Control Number: 0584-0025.

Summary of Collection: Title VI of the Civil Rights Act of 1964 requires the collection of racial/ethnic data for all programs utilizing Federal Funds. Title 28 of the Code of Federal Regulations (CFR), Section 42.107(b), require all Federal Departments to have racial and ethnic information available showing the extent to which minority groups are beneficiaries of the federally assisted programs they administer. In order to comply with the Civil Rights Act, Department of Justice regulations and the Department's nondiscrimination policy and regulations (7 CFR Part 15), the Department's Food and Nutrition Service (FNS) requires State agencies to submit data on the racial/ethnic categories of person receiving benefits from FNS food assistance programs. FNS will collect information using forms FNS 191 and FNS 101.

Need and Use of the Information: FNS will collect the names, address, telephone number, and number of clinics to compile a local agency directory which serves as the primary source of data on number and location for local agencies and number of clinics operating Commodity Supplemental Food Program (CSFP). FNS will also collect information on the number of CFSP individuals (women, infant, children, and elderly) in each racial/ethnic category for one month of the year. The information will be used in the Department's annual USDA Equal Opportunity Report. If the information is not collected FNS could not track racial/ethnic data for program evaluation.

Description of Respondents: State, Local or Tribal Government.

Number of Respondents: 2,939.

Frequency of Responses: Recordkeeping; Reporting: Annually.

Total Burden Hours: 6,595.

Rural Business-Cooperative Service

Title: Rural Economic Development Loan and Grant Program.

OMB Control Number: 0570-0012.

Summary of Collection: Section 313 of the Rural Electrification Act of 1936 (7 U.S.C. 940(c)) established a loan and grant program. The program provides zero interest loans and grants to Rural Utilities Service (RUS) borrowers for the purpose of promoting rural economic development and job creation projects. The loans and grants under this program may be provided to approximately 1,700 electric and telephone utilities across the country that has borrowed funds from RUS. Under this program, the RUS borrowers may receive the loan funds and pass them on to businesses or other organizations. Rural Business-Cooperative Service (RBS) will collect information using form RD 1703-1.

Need and Use of the Information: RBS will collect information to evaluate applications for funding consideration, conduct an environmental review, prepare legal documents, receive loan payments, oversee the operation of a revolving loan fund, monitor the use of RBS funds, enforce other government requirements such as compliance with civil rights regulations. If the information were not collected RBS would be unable to select the projects that will receive loan or grant funds.

Description of Respondents: Business or other for-profit.

Number of Respondents: 180.

Frequency of Responses: Recordkeeping; Reporting: On occasion; Annually.

Total Burden Hours: 7,742.

Rural Housing Service

Title: Farm Labor Housing Technical Assistance Grants.

OMB Control Number: 0575-NEW.

Summary of Collection: Section 514 of Title V of the Housing Act of 1949 authorizes USDA to make loans for the construction of farm labor housing. Section 516 of the Act authorizes USDA to make grants for the same purpose. USDA is authorized to provide “financial assistance to private and public nonprofit agencies to encourage the development of domestic and migrant farm labor housing”. Up to 10 percent of the annual section 516 appropriation may be used for “technical assistance” purposes ($1,350,000 in FY 2000). Recipients of this assistance, in turn, assist other organizations obtain loans and grants for the construction of farm labor housing. The Rural Housing Service will collect information using the Technical Assistance Grant Agreement.

Need and Use of the Information: RHS will collect information to determine applicant eligibility for a grant, project feasibility, to select grant proposals for funding, and to monitor performance after grants have been awarded. Failure to collect this information could result in the improper use of Federal funds.

Description of Respondents: Not-for-profit institutions; State, Local, or Tribal Government.

Number of Respondents: 12.

Frequency of Responses: Recordkeeping; Reporting: Quarterly; Annually.

Total Burden Hours: 7,878.

Agency is requesting emergency approval by May 12, 2000.

Rural Housing Service

Title: 7 CFR 1944-E, Rural Rental and Cooperative Housing Loan Policies, Procedures, and Authorizations.

OMB Control Number: 0575-0047.

Summary of Collection: The Rural Housing Agency (RHS), an agency of the U.S. Department of Agriculture is authorized to make loans to finance rural rental and cooperative housing projects and related facilities under Section 515 and 521 of Title V of the Housing Act of 1949, as amended. The intent of the program is to provide affordable rental housing for elderly or handicapped person or families, or other persons and families of low or moderate income in rural areas. RHS will collect information using forms RD 1944-7, 30, 31, 33, 34, 35, and 38.

Need and Use of the Information: RHS will collect information to evaluate the cost, benefits, feasibility and financial performance of the proposed project, as well as the eligibility of the applicant. Failure to collect this information would result in unauthorized federal assistance being granted.

Description of Respondents: Business or other for-profit; Individuals or households; Not-for-profit institutions; State, Local, or Tribal Government.

Number of Respondents: 425.

Frequency of Responses: Reporting: On occasion.

Total Burden Hours: 28,246.

William McAndrew,
Departmental Clearance Officer.

[FR Doc. 00-11077 Filed 5-3-00; 8:45 am]

BILLING CODE 3410-01-M